DEPARTMENT OF DEFENSE

Office of the Secretary

Charter Renewal of Department of Defense Federal Advisory Committees

AGENCY: Department of Defense.

ACTION: Renewal of Federal Advisory Committee.

SUMMARY: The Department of Defense is publishing this notice to announce that it is renewing the charter for the Reserve Forces Policy Board (“the Board”).

FOR FURTHER INFORMATION CONTACT: Jim Freeman, Advisory Committee Management Officer for the Department of Defense, 703-692-5952.

SUPPLEMENTARY INFORMATION: This committee's charter is being renewed pursuant to 10 U.S.C. 175 and 10301 and in accordance with the Federal Advisory Committee Act (FACA) of 1972 (5 U.S.C., Appendix, as amended) and 41 CFR 102-3.50(a), established the Board.

The Board is a statutory Federal advisory committee that serves as an independent adviser to the Secretary of Defense to provide advice and recommendations on strategic, policies, and practices designed to improve and enhance the capabilities, efficiency, and effectiveness of the reserve components. The Board shall provide to the Secretary of Defense, for transmittal to the President and the Congress, an annual report on any reserve component matters that the Board considers appropriate.

The Board reports to the Secretary of Defense and/or the Deputy Secretary of Defense, through the Under Secretary of Defense for Personnel and Readiness (USD(P&R)). The USD(P&R) may act upon the Board's advice and recommendations.

Under the provisions of 10 U.S.C. 10301(c), the Board shall be composed of 20 members, appointed or designated as follows:

a. A civilian appointed by the Secretary of Defense from among persons determined by the Secretary to have the knowledge of, and experience in, policy matters relevant to national security and reserve component matters necessary to carry out the duties of Chair of the Board, who shall serve as Chair of the Board.

b. Two active or retired reserve officers or enlisted members designated by the Secretary of Defense, upon the recommendation of the Secretary of the Army:

(1) One of whom shall be a member of the Army National Guard of the United States or a former member of the Army National Guard of the United States in the Retired Reserve; and,

(2) One of whom shall be a member or retired member of the Army Reserve.

c. Two active or retired reserve officers or enlisted members designated by the Secretary of Defense, upon the recommendation of the Secretary of the Navy:

(1) One of whom shall be an active or retired officer of the Navy Reserve; and,

(2) One of whom shall be an active or retired officer of the Marine Corps Reserve.

d. Two active or retired reserve officers or enlisted members designated by the Secretary of Defense, upon the recommendation of the Secretary of the Air Force:

(1) One of whom shall be a member of the Air National Guard of the United States or a former member of the Air National Guard of the United States in the Retired Reserve; and,

(2) One of whom shall be a member or retired member of the Air Force Reserve.

e. One active or retired reserve officer or enlisted member of the U.S. Coast Guard designated by the Secretary of Homeland Security.

f. Ten persons appointed or designated by the Secretary of Defense, each of whom shall be a United States citizen having significant knowledge of, and experience in, policy matters relevant to national security and reserve component matters and shall be one of the following:

(1) An individual not employed in any Federal or State department or agency.

(2) An individual employed by a Federal or State department or agency.

(3) An officer of a regular component of the armed forces on active duty, or an officer of a reserve component of the armed forces in an active status, who:

a. Is serving or has served in a senior position on the Joint Staff, the headquarters staff of a Combatant Command, or the headquarters staff of an armed force; and,

b. Has experience in joint professional military education, joint qualification, and joint operations matters.

g. A reserve officer of the Army, Navy, Air Force, or Marine Corps, who is a general or flag officer, recommended by the Chair and designated by the Secretary of Defense, who shall serve without vote:

(1) As military adviser to the Chair;

(2) As military executive officer of the Board; and,

(3) As supervisor of the operations and staff of the Board.

h. A senior enlisted member of a reserve component recommended by the Chair and designated by the Secretary of Defense, who shall serve without vote as enlisted military adviser to the Chair.

Each member, based upon his or her individual professional experience, provides his or her best judgment on the matters before the Board, and he or she does so in a manner that is free from conflict of interest. Board members who are not full-time or permanent part-time Federal officers or employees, will be appointed as experts or consultants pursuant to 5 U.S.C. 3109 to serve as special government employee (SGE) members. Board members who are full-time or permanent part-time Federal officers or employees will serve as regular government employee (RGE) members pursuant to 41 CFR 102-3.130(a). Members of the Board shall serve a term of service of one-to-four years, and their appointments must be renewed by the Secretary of Defense on an annual basis. No member may serve more than two consecutive terms of service without Secretary of Defense or Deputy Secretary of Defense approval.

Board members are not compensated for service on the Board, but each member is reimbursed for travel and per diem as it pertains to official business of the Board.

DoD, when necessary and consistent with the Board's mission and DoD policies and procedures, may establish subcommittees, task forces, or working groups to support the Board. Establishment of subcommittees will be based upon a written determination, to include terms of reference, by the Secretary of Defense, the Deputy Secretary of Defense, or the USD(P&R), as the Board's Sponsor.

Such subcommittees will not work independently of the Board and will report all of their recommendations and advice solely to the Board for full and open deliberation and discussion. Subcommittees, task forces, or working groups have no authority to make decisions and recommendations, verbally or in writing, on behalf of the Board. No subcommittee or any of its members can update or report, verbally or in writing, on behalf of the Board, directly to the DoD or any Federal officers or employees.

Each member, based upon his or her individual professional experience, provides his or her best judgment on the matters before the Board, and he or she does so in a manner that is free from conflict of interest. All subcommittee members will be appointed by the Secretary of Defense or the Deputy Secretary of Defense to a term of service of one-to-four years, with annual renewals, even if the individual in question is already a member of the Board. Subcommittee members will not serve more than two consecutive terms of service, unless authorized by the Secretary of Defense or the Deputy Secretary of Defense. Subcommittee members who are not full-time or permanent part-time Federal officers or employees will be appointed as an expert or consultant pursuant to 5 U.S.C. 3109, to serve as a SGE member. Subcommittee members who are full-time or permanent part-time Federal officers or employees will be appointed pursuant to 41 CFR 102-3.130(a), to serve as a RGE member. With the exception of reimbursement of official travel and per diem related to the Board or its subcommittees, subcommittee members will serve without compensation.

All subcommittees operate under the provisions of FACA, the Sunshine Act, governing Federal statutes and regulations, and established DoD policies and procedures.

Currently, DoD has approved three permanent subcommittees to the Board. The subcommittees will have no more than 15 members and will normally meet once per quarter. A subcommittee Chairperson will be appointed by the Secretary of Defense.

The three permanent subcommittees and their missions are:

a. Subcommittee on Enhancing DoD's Role in the Homeland is focused on improving the capability and capacity of the reserve component to address the increasing threats to the homeland.

b. Subcommittee on Ensuring a Ready, Capable, Available, and Sustainable Operational Reserve is focused on retaining the operational capability and experience within the reserve component to meet future threats.

c. Subcommittee on Supporting and Sustaining Reserve Component Personnel assess whether the current Service member, families, and employers programs and policies are meeting the needs of an operational reserve.

The Board's Designated Federal Officer (DFO) must be a full-time or permanent part-time DoD officer or employee, appointed in accordance with established DoD policies and procedures. The Board's DFO is required to attend all meetings of the Board and its subcommittees for the entire duration of each and every meeting. However, in the absence of the Board's DFO, a properly approved Alternate DFO, duly appointed to the Board according to established DoD policies and procedures, must attend the entire duration of all meetings of the Board and its subcommittees.

The DFO, or the Alternate DFO, calls all meetings of the Board and its subcommittees; prepares and approves all meeting agendas; and adjourns any meeting when the DFO, or the Alternate DFO, determines adjournment to be in the public interest or required by governing regulations or DoD policies and procedures.

Pursuant to 41 CFR 102-3.105(j) and 102-3.140, the public or interested organizations may submit written statements to the Board membership about the Board's mission and functions. Written statements may be submitted at any time or in response to the stated agenda of planned meeting of the Board.

All written statements shall be submitted to the DFO for the Board, and this individual will ensure that the written statements are provided to the membership for their consideration. Contact information for the Board's DFO can be obtained from the GSA's FACA Database— http://www.facadatabase.gov/.

The DFO, pursuant to 41 CFR 102-3.150, will announce planned meetings of the Board. The DFO, at that time, may provide additional guidance on the submission of written statements that are in response to the stated agenda for the planned meeting in question.

Dated: April 14, 2015.
Aaron Siegel,
Alternate OSD Federal Register Liaison Officer, Department of Defense.

[FR Doc. 2015-08881 Filed 4-16-15; 8:45 am]

BILLING CODE 5001-06-P